DEPARTMENT OF LABOR

Employment and Training Administration

[TA-W-83,351]

Sykes Enterprises, Incorporated, Wilton, Maine; Notice of Affirmative Determination Regarding Application for Reconsideration

By application dated May 6, 2014, workers requested administrative reconsideration of the negative determination regarding workers' eligibility to apply for worker adjustment assistance applicable to workers and former workers of Sykes Enterprises, Incorporated, Wilton, Maine (subject firm). The determination was issued on March 19, 2014 and the Department's Notice of determination was published in the Federal Register on April 8, 2014 (79 FR 19382).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial investigation resulted in a negative determination based on the findings that there was no increase in imports by the workers' firm or its customers, nor was there a shift in the supply of services to a foreign country (or foreign acquisition of such services) by the workers' firm.

The request for reconsideration asserts that the subject firm continues to supply from a foreign location like or directly competitive services while decreasing services supplied within the United States. The request for reconsideration included new information in support of the allegations.

The Department has carefully reviewed the request for reconsideration and the existing record, and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 30th day of May, 2014.
Del Min Amy Chen,
Certifying Officer, Office of Trade Adjustment Assistance.

[FR Doc. 2014-13875 Filed 6-12-14; 8:45 am]

BILLING CODE 4510-FN-P